DEPARTMENT OF JUSTICE

28 CFR Part 0

[AG Order No. 2328-2000]

Delegation of Authority: Settlement Authority

AGENCY: Department of Justice

ACTION: Final rule.

SUMMARY: This rule delegates to the directors and commissioners of specified components of the Department of Justice authority to settle administrative claims presented pursuant to the Federal Tort claims Act (FTCA), where the amount of the settlement does not exceed $50,000. Currently, the directors and commissioners of the Bureau of Prisons, Federal Prison Industries, Immigration and Naturalization Service, Marshals Service, and the Drug Enforcement Administration have authority to settle FTCA claims not exceeding $10,000. This rule will alert the general public to the new authority of these officials and is being codified in the Code of Federal Regulations to provide a permanent record of this delegation.

EFFECTIVE DATE: October 10, 2000.

FOR FURTHER INFORMATION CONTACT: Jeffrey Axelrad, Director, Torts Branch, Civil Division, U.S. Department of Justice, P.O. Box 888, Benjamin Franklin Station, Washington, DC 20044, (202) 616-4400.

SUPPLEMENTARY INFORMATION: This rule has been issued to delegate settlement authority to various Department of Justice officials. It is a matter solely related to the division of responsibility within the Department of Justice. It relates to matters of agency policy, management, or personnel, and is therefore exempt from the usual requirements of prior notice and comment, and a 30-day delay in the effective date. See 5 U.S.C. 553(a)(2), (b)(A).

Executive Order 12866

This rule falls within a category of actions that the Office of Management and Budget (OMB) has determined do not constitute “significant regulatory actions“ under section 3(f) of Executive Order 12866 and, accordingly, was not reviewed by OMB.

Executive Order 13132

This rule will not have substantial direct effects on the States, on the relationship between the national government and the States, or on the distribution of power and responsibilities among the various levels of government. Therefore, in accordance with section 6 of Executive Order 13132, the Department of Justice has determined that this rule does not have sufficient federalism implications to warrant the preparation of a federalism summary impact statement.

Regulatory Flexibility Act

The Attorney General, in accordance with the Regulatory Flexibility Act, 5 U.S.C. 605(b), has reviewed this regulation and, by approving it, certifies that this regulation will not have a significant economic impact upon a substantial number of small entities.

Unfunded Mandates Reform Act of 1995

This rule will not result in the expenditure by State, local, and tribal governments, in the aggregate, or by the private sector, of $100,000,000 or more in any one year, and it will not significantly or uniquely affect small governments. Therefore, no actions were deemed necessary under the provisions of the Unfunded Mandates Reform Act of 1995.

Small Business Regulatory Enforcement Fairness Act of 1996

This rule is not a major rule as defined section 251 of the Small Business Regulatory Enforcement Fairness Act of 1996, 5 U.S.C. 804.

This rule will not result in an annual effect on the economy of $100,000,000 or more; a major increase in costs or prices; or significant adverse effects on competition, employment, investment, productivity, innovation, or on the ability of United States-based companies to compete with foreign-based companies in domestic and export markets.

Plain Language Instructions

We try to write clearly. If you can suggest how to improve the clarity of these regulations, call or write Jeffrey Axelrad at the address and telephone number given above.

List of Subjects in 28 CFR Part 0

Authority delegations (government agencies), Claims.

Accordingly, Part 0 of Title 28 of the Code of Federal Regulations is amended as follows:

PART 0—ORGANIZATION OF THE DEPARTMENT

1. The authority citation for Part 0 continues to read as follows:

Authority: 5 U.S.C. 301; 28 U.S.C. 509, 510, 515-519.

2. Section 0.172 of Part 0, Subpart Y, is amended by revising paragraph (a) to read as follows:

§ 0.172 Authority: Federal tort claims.

(a) The Director of the Bureau of Prisons, the Commissioner of Federal Prison Industries, the Commissioner of the Immigration and Naturalization Service, the Director of the United States Marshals Service, and the Administrator of the Drug Enforcement Administration shall have authority to adjust, determine, compromise, and settle a claim involving the Bureau of Prisons, Federal Prison Industries, the Immigration and Naturalization Service, the United States Marshals Service, and the Drug Enforcement Administration, respectively, under section 2672 of title 28, United States Code, relating to the administrative settlement of Federal tort claims, if the amount of a proposed adjustment, compromise, settlement, or award does not exceed $50,000. When, in the opinion of one of those officials, such a claim pending before him presents a novel question of law or a question of policy, he shall obtain the advice of the Assistant Attorney General in charge of the Civil Division before taking action on the claim.

* * * * *

Dated: October 2, 2000.
Janet Reno,
Attorney General.

[FR Doc. 00-25904 Filed 10-6-00; 8:45 am]

BILLING CODE 4410-12-M